NATIONAL CREDIT UNION ADMINISTRATION

Agency Information Collection Activities: Proposed Collection; Comment Request; Loan Participation

AGENCY: National Credit Union Administration (NCUA).

ACTION: Notice and request for comment.

SUMMARY: The National Credit Union Administration (NCUA), as part of a continuing effort to reduce paperwork and respondent burden, invites the general public and other Federal agencies to comment on the following renewal of a currently approved collection, as required by the Paperwork Reduction Act of 1995.

DATES: Written comments should be received on or before January 18, 2019 to be assured consideration.

ADDRESSES: Interested persons are invited to submit written comments on the information collection to Dawn Wolfgang, National Credit Union Administration, 1775 Duke Street, Suite 5080, Alexandria, Virginia 22314; Fax No. 703-519-8579; or Email at PRAComments@NCUA.gov.

FOR FURTHER INFORMATION CONTACT: Requests for additional information should be directed to the address above or Dawn Wolfgang at 703-548-2279.

SUPPLEMENTARY INFORMATION:

OMB Number: 3133-0141.

Title: Organization and Operations of Federal Credit Unions—Loan Participation, 12 CFR 701.22.

Type of Review: Extension of a currently approved collection.

Abstract: NCUA rules and regulations, §§ 701.22 and 741.225, outline the requirements for a loan participation program. Federally Insured Credit Unions (FICU) are required to execute a written loan participation agreement with the lead lender. Additionally, the rule requires all FICUs to maintain a loan participation policy that establishes underwriting standards and maximum concentration limits. Credit unions may apply for waivers on certain key provisions of the rule.

Affected Public: Private Sector: Not-for-profit institutions.

Estimated No. of Respondents: 1,876.

Estimated Annual Frequency: 1.

Estimated Total Annual Responses: 3,762.

Estimated Annual Responses per Respondent: 0.80

Estimated Total Annual Burden Hours: 3,010.

Reason for Change: Adjustments are being made to the number of respondents to reflect the current number of credit unions affected and a more accurate assignment of burden per response.

Request for Comments: Comments submitted in response to this notice will be summarized and included in the request for Office of Management and Budget approval. All comments will become a matter of public record. The public is invited to submit comments concerning: (a) Whether the collection of information is necessary for the proper execution of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By Gerard Poliquin, Secretary of the Board, the National Credit Union Administration, on November 14, 2018.

Dated: November 14, 2018.
Dawn D. Wolfgang,
NCUA PRA Clearance Officer.

[FR Doc. 2018-25141 Filed 11-16-18; 8:45 am]

BILLING CODE 7535-01-P